DEPARTMENT OF ENERGY

Federal Energy Regulatory Commission

[Docket No. ER01-2459-000]

New York Independent System Operator, Inc.; Notice of Filing

July 5, 2001.

Take notice that on June 29, 2001, the New York Independent System Operator, Inc. (NYISO) filed revisions to its Market Administration and Control Area Services Tariff (“Services Tariff”) to permit Capacity Limited Resources and Energy Limited Resources to incorporate more precise information about their upper operating limits in their bids.

The NYISO has served a copy of this filing upon all parties that have executed Service Agreements under the NYISO's Open Access Transmission Tariff and Services Tariff, as well as the New York State Public Service Commission, and the electric utility regulatory agencies in New Jersey and Pennsylvania.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before July 13, 2001. Protests will be considered by the Commission to determine the appropriate action to be taken, but will not serve to make protestants parties to the proceedings. Any person wishing to become a party must file a motion to intervene. Copies of this filing are on file with the Commission and are available for public inspection. This filing may also be viewed on the Commission's web site at http://www.ferc.gov using the “RIMS” link, select “Docket#” and follow the instructions (call 202-208-2222 for assistance). Comments, protests and interventions may be filed electronically via the internet in lieu of paper. See, 18 CFR 385.2001(a)(1)(iii) and the instructions on the Commission's web site under the “e-filing” link.

Linwood A. Watson, Jr.,
Acting Secretary.

[FR Doc. 01-17329 Filed 7-10-01; 8:45 am]

BILLING CODE 6717-01-P